DEPARTMENT OF LABOR

Employment and Training Administration

[NAFTA-3849]

A. Schulman, Inc., Dispersion Division, Orange, Texas; Notice of Revised Determination on Reopening

By letter of June 28, 2000, the petitioner, PACE Local 4-836, requested administrative reconsideration of the Department's denial North American Free Trade Agreement-Transitional Adjustment Assistance (NAFTA-TAA) for workers and former workers of the subject firm.

The workers at A. Schulman, Inc., Dispersion Division, Orange, Texas, produce polypropylene and polyethylene products (TPPs and PBAs). The workers were denied eligibility to apply for NAFTA-TAA based on the finding that criteria (3) and (4) of paragraph (a)(1) of Section 250 of the Trade Act of 1974, as amended, were not met. The A. Schulman, Inc., Dispersion Division, Orange, Texas, did not import polypropylene and polyethylene products from Mexico or Canada, nor did it shift production from Orange, Texas to those countries. The notice was published in the Federal Register on June 8, 2000 (65 FR 36470).

New information provided by the petitioner and review of the investigation findings show that there was a shift in production from the Orange, Texas plant to Mexico.

Conclusion

After careful consideration of the new facts obtained on reopening, it is concluded that the workers of A. Schulman, Inc., Dispersion Division, Orange, Texas, were adversely affected by a shift in production to Mexico of articles like or directly competitive with the articles produced at the subject firm.

All workers of A. Schulman, Inc., Dispersion Division, Orange, Texas, who became totally or partially separated from employment on or after March 21, 1999 through two years from the date of this issuance, are eligible to apply for NAFTA-TAA under Section 250 of the Trade Act of 1974.

Signed at Washington, DC this 12th day of July 2000.
Grant D. Beale,
Program Manager, Division of Trade Adjustment Assistance.

[FR Doc. 00-18353 Filed 7-19-00; 8:45 am]

BILLING CODE 4510-30-M